DEPARTMENT OF TRANSPORTATION

Federal Aviation Administration

14 CFR Part 39

[Docket No. FAA-2015-3149; Directorate Identifier 2015-NM-014-AD; Amendment 39-18394; AD 2016-03-07]

RIN 2120-AA64

Airworthiness Directives; Airbus Airplanes

AGENCY: Federal Aviation Administration (FAA), Department of Transportation (DOT).

ACTION: Final rule.

SUMMARY: We are adopting a new airworthiness directive (AD) for all Airbus Model A330-200, -200 Freighter, and -300 series airplanes, and all Airbus Model A340-200, -300, -500, and -600 series airplanes. This AD was prompted by reports of premature aging of certain chemical oxygen generators in the passenger compartment that resulted in failure of the generators to activate. This AD requires inspecting to determine if certain passenger chemical oxygen generators are installed, and replacement of affected generators. We are issuing this AD to prevent failure of the chemical oxygen generator to activate during an emergency situation, which could result in unavailability of oxygen and possible incapacitation of the occupants.

DATES: This AD becomes effective April 13, 2016.

The Director of the Federal Register approved the incorporation by reference of certain publications listed in this AD as of April 13, 2016.

ADDRESSES: You may examine the AD docket on the Internet at http://www.regulations.gov/#!docketDetail;D=FAA-2015-3149; or in person at the Docket Management Facility, U.S. Department of Transportation, Docket Operations, M-30, West Building Ground Floor, Room W12-140, 1200 New Jersey Avenue SE., Washington, DC.

For Airbus service information identified in this final rule, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

For B/E Aerospace service information identified in this final rule, contact B/E Aerospace Inc., 10800 Pflumm Road, Lenexa, KS 66215; telephone 913-338-9800; fax 913-469-8419; Internet http://beaerospace.com/home/globalsupport.

You may view this referenced service information at the FAA, Transport Airplane Directorate, 1601 Lind Avenue SW., Renton, WA. For information on the availability of this material at the FAA, call 425-227-1221. It is also available on the Internet at http://www.regulations.gov by searching for and locating Docket No. FAA-2015-3149.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

We issued a notice of proposed rulemaking (NPRM) to amend 14 CFR part 39 by adding an AD that would apply to all Airbus Model A330-200, -200 Freighter, and -300 series airplanes; and all Airbus Model A340-200, -300, -500, and -600 series airplanes. The NPRM published in the Federal Register on August 31, 2015 (80 FR 52419).

The European Aviation Safety Agency (EASA), which is the Technical Agent for the Member States of the European Union, has issued EASA Airworthiness Directive 2015-0119, dated June 24, 2015, correction January 12, 2016 (referred to after this as the Mandatory Continuing Airworthiness Information, or “the MCAI”), to correct an unsafe condition for all Airbus Model A330-200, -200 Freighter, and -300 series airplanes; and Model A340-200, -300, -500, and -600 series airplanes. The MCAI states:

Reports have been received indicating premature ageing of certain passenger chemical oxygen generators, Part Number (P/N) 117042-XX (XX representing any numerical value), manufactured by B/E Aerospace. Some operators reported that when they tried to activate generators, some older units failed to activate. Given the number of failed units reported, all the generators manufactured in 1999, 2000, and 2001 were considered unreliable.

This condition, if not corrected, could lead to failure of the generator to activate and consequently not deliver oxygen during an emergency, possibly resulting in injury to aeroplane occupants.

To address this potential unsafe condition, Airbus issued Alert Operators Transmission (AOT) A35L007-14, making reference to B/E Aerospace Service Information Letter (SIL) D1019-01 (currently at Revision 1) and B/E Aerospace Service Bulletin (SB) 117042-35-001. Consequently, EASA issued AD 2014-0277 to require identification and replacement of the affected oxygen generators.

Since EASA AD 2014-0277 was issued, and following new investigation results, EASA has decided to introduce a life limitation concerning all P/N 117042-XX chemical oxygen generators, manufactured by B/E Aerospace.

For the reason described above, this EASA AD retains the requirements of EASA AD 2014-0277, which is superseded, expands the scope of the AD to include chemical oxygen generators manufactured after 2001, and requires their removal from service before exceeding 10 years since date of manufacture.

This [EASA] AD was republished to correct a typographical error in the applicability.

You may examine the MCAI in the AD docket on the Internet at http://www.regulations.gov/#!documentDetail;D=FAA-2015-3149-0002.

Comments

We gave the public the opportunity to participate in developing this AD. The following presents the comment received on the NPRM (80 FR 52419, August 31, 2015) and the FAA's response.

Request To Remove Operator Identification

Airbus asked that we remove the operator identification from the chemical oxygen generator pictured in Figure 2 to paragraph (g) of the proposed AD (80 FR 52419, August 31, 2015). Airbus stated that Figure 2 to paragraph (g) should replicate Figure 2 in EASA AD 2015-0119, dated June 24, 2015, which was published with no signs or references to an operator.

We agree with the commenter for the reason provided. We have changed the oxygen generator picture in Figure 2 to paragraph (g) of this AD accordingly.

Clarification of Oxygen Generators for Replacement

We have revised paragraph (i) in this AD to clarify the identity of the oxygen generators to be replaced.

Conclusion

We reviewed the relevant data, considered the comment received, and determined that air safety and the public interest require adopting this AD with the change described previously and minor editorial changes. We have determined that these minor changes:

• Are consistent with the intent that was proposed in the NPRM (80 FR 52419, August 31, 2015) for correcting the unsafe condition; and

• Do not add any additional burden upon the public than was already proposed in the NPRM (80 FR 52419, August 31, 2015).

Related Service Information Under 1 CFR Part 51

Airbus has issued Alert Operators Transmission (AOT) A35L007-14, Revision 01, June 17, 2015; including Appendix A, Revision 01, dated June 17, 2015. B/E Aerospace has issued Service Bulletin 117042-35-001, dated December 10, 2014. The service information describes procedures for inspecting to determine if certain passenger chemical oxygen generators are installed, and replacing affected generators. This service information is reasonably available because the interested parties have access to it through their normal course of business or by the means identified in the ADDRESSES section.

Costs of Compliance

We estimate that this AD affects 91 airplanes of U.S. registry.

We estimate the following costs to comply with this AD:

Estimated Costs
Action | Labor cost | Parts cost | Cost per product | Cost on U.S. operators
Inspection | 1 work-hour × $85 per hour = $85 | $0 | $85 | $7,735.
Replacement | 1 work hour × $85 per hour = $85 | $1,000 per oxygen generator | $1,085 per oxygen generator | $98,735 for one oxygen generator.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2015-3149; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-03-07 Airbus: Amendment 39-18394. Docket No. FAA-2015-3149; Directorate Identifier 2015-NM-014-AD.

(a) Effective Date

This AD becomes effective April 13, 2016.

(b) Affected ADs

None.

(c) Applicability

This AD applies to the airplanes, certificated in any category, identified in paragraphs (c)(1) and (c)(2) of this AD, all manufacturer serial numbers; except those on which a gaseous system for all oxygen generators is installed.

(1) Airbus Model A330-201, -202, -203, -223, -223F, -243, -243F, -301, -302, -303, -321, -322, -323, -341, -342, and -343 airplanes.

(2) Airbus Model A340-211, -212, -213, -311, -312, -313, -541, and -642 airplanes.

(d) Subject

Air Transport Association (ATA) of America Code 35, Oxygen.

(e) Reason

This AD was prompted by reports of premature aging of certain chemical oxygen generators in the passenger compartment that resulted in failure of the generators to activate. We are issuing this AD to prevent failure of the chemical oxygen generator to activate during an emergency situation, which could result in unavailability of oxygen and possible incapacitation of the occupants.

(f) Compliance

Comply with this AD within the compliance times specified, unless already done.

(g) Inspection

Within 30 days after the effective date of this AD: Inspect each passenger chemical oxygen generator to identify the date of manufacture (refer to figures 1 and 2 to paragraph (g) of this AD for the location of the date) of each passenger chemical oxygen generator having any part number (P/N) listed in paragraphs (g)(1) through (g)(6) of this AD, in accordance with the Instructions of Airbus Alert Operators Transmission (AOT) A35L007-14, Revision 01, June 17, 2015, including Appendix A, Revision 01, dated June 17, 2015. A review of airplane maintenance records is acceptable in lieu of this inspection if the date of manufacture of the generator can be conclusively determined from that review.

(1) 117042-02 (15 minutes (min)—2 masks).

(2) 117042-03 (15 min—3 masks).

(3) 117042-04 (15 min—4 masks).

(4) 117042-22 (22 min—2 masks).

(5) 117042-23 (22 min—3 masks).

(6) 117042-24 (22 min—4 masks).

(h) Replacement of Pre-2002 Passenger Oxygen Generators

If, during any inspection required by paragraph (g) of this AD, any passenger chemical oxygen generator having a date of manufacture of 1999, 2000, or 2001 is found: At the time specified in paragraph (h)(1), (h)(2), or (h)(3) of this AD, as applicable, replace the affected passenger chemical oxygen generator, in accordance with the Instructions of Airbus AOT A35L007-14, Revision 01, June 17, 2015; including Appendix A, Revision 01, dated June 17, 2015 (for 15- and 22-minute passenger chemical oxygen generators); or in accordance with the Accomplishment Instructions of B/E Aerospace Service Bulletin 117042-35-001, dated December 10, 2014 (for 15-minute passenger chemical oxygen generators).

(1) For units manufactured in 1999: Within 30 days after the effective date of this AD.

(2) For units manufactured in 2000: Within 6 months after the effective date of this AD.

(3) For units manufactured in 2001: Within 12 months after the effective date of this AD.

(i) Replacement of 2002 or Later Passenger Oxygen Generators

If, during any inspection required by paragraph (g) of this AD, any passenger chemical oxygen generator having a date of manufacture of 2002 or later is found: At the time specified in paragraph (i)(1), (i)(2), (i)(3), (i)(4), (i)(5), (i)(6), (i)(7), or (i)(8) of this AD, as applicable, replace the affected passenger chemical oxygen generator with a serviceable unit, in accordance with the Instructions of Airbus AOT A35L007-14, Revision 01, June 17, 2015; including Appendix A, Revision 01, dated June 17, 2015 (for 15- and 22-minute passenger chemical oxygen generators); or in accordance with the Accomplishment Instructions of B/E Aerospace Service Bulletin 117042-35-001, dated December 10, 2014 (for 15-minute passenger chemical oxygen generators).

(1) For units manufactured in 2002: Within 12 months after the effective date of this AD.

(2) For units manufactured in 2003: Within 16 months after the effective date of this AD.

(3) For units manufactured in 2004: Within 20 months after the effective date of this AD.

(4) For units manufactured in 2005: Within 24 months after the effective date of this AD.

(5) For units manufactured in 2006: Within 28 months after the effective date of this AD.

(6) For units manufactured in 2007: Within 32 months after the effective date of this AD.

(7) For units manufactured in 2008: Within 36 months after the effective date of this AD.

(8) For units manufactured in 2009 or later: Before the accumulation of 10 years since date of manufacture.

(j) Definition of a Serviceable Unit

A serviceable unit is an oxygen generator having P/N 117042-XX, with a manufacturing date not older than 10 years, or any other FAA-approved part number, provided that the generator has not exceeded the life limit established by the manufacturer for that generator.

(k) Credit for Previous Actions

This paragraph provides credit for the applicable actions required by paragraphs (g), (h), and (i) of this AD, if those actions were performed before the effective date of this AD using Airbus AOT A35L007-14, dated December 18, 2014.

(l) Parts Installation Limitation

As of the effective date of this AD, no person may install a passenger chemical oxygen generator on any airplane, unless the passenger chemical oxygen generator is determined to be a serviceable unit, as defined in paragraph (j) of this AD.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(n) Related Information

(1) Refer to Mandatory Continuing Airworthiness Information (MCAI) EASA Airworthiness Directive 2015-0119, dated June 24, 2015, correction January 12, 2016, for related information. This MCAI may be found in the AD docket on the Internet at http://www.regulations.gov by searching for and locating Docket No. FAA-2015-3149.

(2) Service information identified in this AD that is not incorporated by reference is available at the addresses specified in paragraphs (o)(3) and (o)(5) of this AD.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Alert Operators Transmission (AOT) A35L007-14, Revision 01, June 17, 2015; including Appendix A, Revision 01, dated June 17, 2015. The revision date is not shown on Appendix A.

(ii) B/E Aerospace Service Bulletin 117042-35-001, dated December 10, 2014.

(3) For Airbus service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(4) For B/E Aerospace service information identified in this AD, contact B/E Aerospace Inc., 10800 Pflumm Road, Lenexa, KS 66215; telephone 913-338-9800; fax 913-469-8419; Internet http://beaerospace.com/home/globalsupport.

(5) You may view this service information at the FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on February 19, 2016.
Dorr M. Anderson,
Acting Manager, Transport Airplane Directorate, Aircraft Certification Service.

[FR Doc. 2016-04538 Filed 3-8-16; 8:45 am]

BILLING CODE 4910-13-P